SECURITIES AND EXCHANGE COMMISSION

[Release No. 34-44073; File No. SR-CBOE-01-05]

Self-Regulatory Organizations; Notice of Filing and Immediate Effectiveness of Proposed Rule Change by the Chicago Board Options Exchange, Inc. Extending the Pilot Program for Rule 6.8(c) Regarding Operation of the Retail Automatic Execution System

March 14, 2001.

Correction

In notice document 01-7073 appearing on page 16077 in the issue of Thursday, March 22, 2001, the heading is corrected to read as set forth above.

[FR Doc. C1-7073 Filed 4-2-01; 8:45 am]

BILLING CODE 1505-01-D